DEPARTMENT OF LABOR

Wage and Hour Division

29 CFR Parts 548 and 778

RIN 1235-AA24

Regular Rate Under the Fair Labor Standards Act

AGENCY: Wage and Hour Division, Department of Labor.

ACTION: Proposed rule; extension of comment period.

SUMMARY: This document extends the period for submitting written comments on the Notice of Proposed Rulemaking (NPRM) entitled “Regular Rate Under the Fair Labor Standards Act.” The comment period now ends on June 12, 2019. The Department of Labor (Department) is taking this action to provide interested parties additional time to submit comments in response to requests for extension.

DATES: The comment period for the proposed rule published March 29, 2019, at 84 FR 11888, is extended. The period for public comments, which was set to close on May 28, 2019, is extended to June 12, 2019. Comments must be received by 11:59 p.m. on June 12, 2019.

ADDRESSES: To facilitate the receipt and processing of written comments on this NPRM, the Department encourages interested persons to submit their comments electronically. You may submit comments, identified by Regulatory Information Number (RIN) 1235-AA24, by either one of the following methods:

Electronic comments: Follow the instructions for submitting comments on the Federal eRulemaking Portal http://www.regulations.gov.

Mail: Address written submissions to Amy DeBisschop, Acting Director of the Division of Regulations, Legislation, and Interpretation, Wage and Hour Division, U.S. Department of Labor, Room S-3502, 200 Constitution Avenue NW, Washington, DC 20210.

Instructions: This NPRM is available through the Federal Register and the http://www.regulations.gov website. You may also access this document via the Wage and Hour Division's (WHD) website at http://www.dol.gov/whd/. All comment submissions must include the agency name (Wage and Hour Division) and Regulatory Information Number (1235-AA24) for this NPRM. Response to this NPRM is voluntary. The Department requests that no business proprietary information, copyrighted information, or personally identifiable information be submitted in response to this NPRM. Submit only one copy of your comment by only one method (e.g., persons submitting comments electronically are encouraged not to submit paper copies). Please be advised that comments received will become a matter of public record and will be posted without change to http://www.regulations.gov, including any personal information provided. All comments must be received by 11:59 p.m. on the date indicated for consideration in this NPRM; comments received after the comment period closes will not be considered. Commenters should transmit comments early to ensure timely receipt prior to the close of the comment period. Electronic submission via http://www.regulations.gov enables prompt receipt of comments submitted as the Department continues to experience delays in the receipt of mail in our area. For access to the docket to read background documents or comments, go to the Federal eRulemaking Portal at http://www.regulations.gov.

FOR FURTHER INFORMATION CONTACT: Amy DeBisschop, Acting Director of the Division of Regulations, Legislation, and Interpretation, Wage and Hour Division, U.S. Department of Labor, Room S-3502, 200 Constitution Avenue NW, Washington, DC 20210; telephone: (202) 693-0406 (this is not a toll-free number). Copies of the NPRM may be obtained in alternative formats (Large Print, Braille, Audio Tape, or Disc) upon request by calling (202) 693-0675 (this is not a toll-free number). TTY/TDD callers may dial toll-free 1 (877) 889-5627 to obtain information or request materials in alternative formats.

Questions of interpretation and/or enforcement of the agency's regulations may be directed to the nearest WHD district office. Locate the nearest office by calling WHD's toll-free help line at (866) 4US-WAGE ((866) 487-9243) between 8 a.m. and 5 p.m. in your local time zone, or log onto WHD's website at http://www.dol.gov/whd/america2.htm for a nationwide listing of WHD district and area offices.

SUPPLEMENTARY INFORMATION: On March 29, 2019, the Department published an NPRM and request for comments in the Federal Register (84 FR 11888), proposing to update the regulations to provide clarity and better reflect the 21st-century workplace. The NPRM also requested public comments on the NPRM on or before May 28, 2019. In response to requests for extension of the comment period from commenters the Department has extended the period for submitting public comment to June 12, 2019.

The Department has received requests to extend the period for filing public comments from law firms, unions, and advocacy organizations, among others. Because of the interest that has been expressed in this matter, the Department has decided to provide an extension of the period for submitting public comment until June 12, 2019.

Cheryl M. Stanton,
Administrator, Wage and Hour Division.

[FR Doc. 2019-09842 Filed 5-13-19; 8:45 am]

BILLING CODE 4510-27-P